DEPARTMENT OF ENERGY

Federal Energy Regulatory Commission

Combined Notice of Filings #1

September 16, 2009.

Take notice that the Commission received the following exempt wholesale generator filings:

Docket Numbers: EG09-92-000.

Applicants: Eurus Combine Hills II LLC.

Description: Eurus Combine Hills II LLC submits notice of self-certification as an exempt wholesale generator.

Filed Date: 09/14/2009.

Accession Number: 20090916-0077.

Comment Date: 5 p.m. Eastern Time on Monday, October 05, 2009.

Take notice that the Commission received the following electric rate filings:

Docket Numbers: ER00-2129-003; ER04-944-007; ER99-1801-012.

Applicants: Orion Power Midwest, L.P., RRI Energy Wholesale Generation, LLC, RRI Energy Solutions East, LLC.

Description: Amendment to the Triennial Report of RRI Central MBR Entities.

Filed Date: 09/15/2009.

Accession Number: 20090915-5054.

Comment Date: 5 p.m. Eastern Time on Tuesday, October 06, 2009.

Docket Numbers: ER03-1284-007; ER05-1202-007; ER08-1225-004.

Applicants: Blue Canyon Windpower II LLC, Cloud County Wind Farm, LLC, Blue Canyon Windpower LLC.

Description: Blue Canyon Windpower LLC et al submits notice of non-material change in status in compliance with the reporting requirements set forth in section 35.42 of the regulations of the FERC.

Filed Date: 09/15/2009.

Accession Number: 20090916-0076.

Comment Date: 5 p.m. Eastern Time on Tuesday, October 06, 2009.

Docket Numbers: ER06-615-053; ER09-556-002; ER08-367-007.

Applicants: California Independent System Operator Corporation.

Description: Motion of the California Independent System Operator Corporation to Modify the Effective Date of Certain Tariff Revisions.

Filed Date: 09/11/2009.

Accession Number: 20090911-5108.

Comment Date: 5 p.m. Eastern Time on Friday, October 02, 2009.

Docket Numbers: ER09-412-007.

Applicants: PJM Interconnection LLC.

Description: PJM Interconnection, LLC submits revisions to the PJM Open Access Transmission Tariff, FERC Electric Tariff Sixth Revised Volume 1 to incorporate changes directed by the Aug. 14 Order.

Filed Date: 09/14/2009.

Accession Number: 20090916-0015.

Comment Date: 5 p.m. Eastern Time on Monday, October 05, 2009.

Docket Numbers: ER09-1574-001.

Applicants: MidAmerican Energy Company.

Description: MidAmerican Energy Company submits Substitute First Revised Rate Schedule No 42 et al.

Filed Date: 09/14/2009.

Accession Number: 20090914-0077.

Comment Date: 5 p.m. Eastern Time on Monday, October 05, 2009.

Docket Numbers: ER09-1618-000.

Applicants: Montana Alberta Tie Ltd.

Description: Supplemental Information of Montana Alberta Tie Ltd, and MATL LLP.

Filed Date: 09/10/2009.

Accession Number: 20090910-5107.

Comment Date: 5 p.m. Eastern Time on September 21, 2009.

Docket Numbers: ER09-1695-000.

Applicants: Public Service Company of New Mexico.

Description: Public Service Company of New Mexico submits a transmission service agreement with Third Planet Windpower, LLC.

Filed Date: 09/11/2009.

Accession Number: 20090911-0055.

Comment Date: 5 p.m. Eastern Time on Friday, October 02, 2009.

Docket Numbers: ER09-1699-000.

Applicants: Eurus Combine Hills II LLC.

Description: Eurus Combine Hills II, LLC submits application for market based rate authority and associated waivers and blanket approvals.

Filed Date: 09/14/2009.

Accession Number: 20090916-0014.

Comment Date: 5 p.m. Eastern Time on Monday, October 05, 2009.

Docket Numbers: ER09-1706-000.

Applicants: Tampa Electric Company.

Description: Tampa Electric Company submits contract for the purchase and sale of economy energy between Tampa Electric and The Energy Authority, Inc.

Filed Date: 09/14/2009.

Accession Number: 20090915-0062.

Comment Date: 5 p.m. Eastern Time on Monday, October 05, 2009.

Docket Numbers: ER09-1707-000.

Applicants: PacifiCorp.

Description: PacifiCorp Energy submits notice of termination of Rate Schedule No. 389 with Bonneville Power Administration.

Filed Date: 09/14/2009.

Accession Number: 20090915-0061.

Comment Date: 5 p.m. Eastern Time on Monday, October 05, 2009.

Docket Numbers: ER09-1708-000.

Applicants: New York Independent System Operator, Inc.

Description: New York Independent System Operator, Inc submits for request for a one time waiver.

Filed Date: 09/15/2009.

Accession Number: 20090915-0060.

Comment Date: 5 p.m. Eastern Time on Tuesday, October 06, 2009.

Docket Numbers: ER09-1709-000.

Applicants: Midwest Independent Transmission System.

Description: Midwest Independent Transmission System Operator, Inc submits revisions to the Credit Policy in Attachment L and Module A of the Midwest ISO's Open Access Transmission, Energy and Operating Reserves Market Tariff.

Filed Date: 09/15/2009.

Accession Number: 20090916-0018.

Comment Date: 5 p.m. Eastern Time on Tuesday, October 06, 2009.

Take notice that the Commission received the following open access transmission tariff filings:

Docket Numbers: OA09-11-001.

Applicants: Black Hills Power, Inc.

Description: Transmission Providers submits a revised version of Attachment K to their joint open access transmission tariff on file with FERC.

Filed Date: 09/15/2009.

Accession Number: 20090916-0017.

Comment Date: 5 p.m. Eastern Time on Tuesday, October 06, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-22998 Filed 9-23-09; 8:45 am]

BILLING CODE 6717-01-P